DEPARTMENT OF LABOR

Employment and Training Administration

Workforce Investment Act (WIA) Section 167; The National Farmworker Jobs Program (NFJP)

AGENCY: Employment and Training Administration (ETA), Labor.

ACTION: Notice of formula allocations for the Program Year (PY) 2005 NFJP, request for comments.

SUMMARY: Under Section 182(d) of the WIA of 1998, ETA is publishing the PY 2005 allocations for the NFJP, authorized under Section 167 of the WIA. The allocations are distributed to the states by a formula that estimates, by state, the relative demand for NFJP services. The allocations in this notice apply to the PY beginning July 1, 2005.

DATES: Comments must be submitted on or before May 31, 2005.

ADDRESSES: Comments should be sent to Alina M. Walker, Chief, Division of Seasonal Farmworker Programs, Room S-4206, Employment and Training Administration, U.S. Department of Labor, 200 Constitution Avenue, NW., Washington, DC 20210, e-mail address: walker.alina@dol.gov.

FOR FURTHER INFORMATION CONTACT: Alina M. Walker, Chief, Division of Seasonal Farmworker Programs, Room S-4206, Employment and Training Administration, U.S. Department of Labor, 200 Constitution Avenue, NW., Washington, DC 20210, telephone: (202) 693-2706 (this is not a toll-free number).

SUPPLEMENTARY INFORMATION:

I. Background

On May 19, 1999, ETA published a notice establishing new factors for the formula that allocates funds available for the NFJP in the Federal Register at 64 FR 27390. This Federal Register notice is available at the following Internet address: http://www.doleta.gov/MSFW/pdf/allocationtable.pdf.

The May 19, 1999, Federal Register may also be obtained by submitting a mail, e-mail or telephone request to Alina M. Walker, Chief, Division of Seasonal Farmworker Programs, Room S-4206, Employment and Training Administration, U.S. Department of Labor, 200 Constitution Avenue, NW., Washington, DC 20210, e-mail address: walker.alina@dol.gov, telephone number (202) 693-2706 (this is not a toll-free number).

The May 19, 1999, notice explained the purpose of the formula, i.e., distributing funds geographically by state service area on the basis of each area's relative share of farmworkers who are eligible for enrollment in the NFJP. The data used to run the formula is comprised of a combination of data sets that were selected to yield the relative share distribution across states of eligible farmworkers. The combined-data set driven formula is substantially more relevant to the purpose of aligning the allocations with the eligible population than the allocations determined by the prior formula.

For PY 2005, the data factors used in the formula remain unchanged since they were first developed in 1999. However, the PY 2005 data sets used for determining each state's relative share of eligible farmworkers have been updated with more recent data available from the 2000 Census, the 2003 National Agricultural Workers Survey (NAWS), and the 2002 Census of Agriculture.

II. Limitations on Uses of Section 167 Funds

In appropriating the funds for PY 2005, Congress provided in the Consolidated Appropriations Act, 2005 (P.L. 108-447) $76,370,000 for carrying out Section 167 of the Workforce Investment Act of 1998, including $71,787,000 for state service area grants, $4,583,000 for migrant and seasonal farmworker housing grants, and $504,000 for Section 167 training, technical assistance and related activities. Funds for migrant rest center activities are included in the $504,000 available for technical assistance and training.

Public Law 108-447 also includes a 0.80 percent government-wide across-the-board rescission. A total of $71,690,318 for formula grants is available for allocation as a result of applying this rescission.

III. PY 2005 Allocation Formula

The formula distribution for the $71,690,318 available for allocation in PY 2005 reflects the state-by-state relative share of eligible farmworkers as determined by the updated combined data sets described in the May 19, 1999, Federal Register notice. Additional “hold-harmless” and “stop-loss”/“stop-gain” adjustments to the formula were applied for the PY 2005 NFJP fund allocation. The “hold-harmless” adjustment provides that states would receive no less than 85 percent of their comparable 1998 allocation levels. This “hold-harmless” adjustment has been applied to the formula allocations in the last three years. The “stop-loss”/“stop-gain” adjustment is used for the first time this year and provides that states would receive no less than 75 percent or no more than 150 percent of their relative share of the total PY 2004 formula allocations to all States. Of the two minimums, states would receive the higher of the “hold-harmless” or the “stop-loss” amount (limited by the “stop-gain” if necessary).

To make these adjustments, each state's PY 2005 formula allocation calculation was first compared to a minimum amount equal to the higher of 85 percent of its PY 1998 dollar allocation or 90 percent of its relative share in PY 2004 multiplied by the PY 2005 total formula amount. For each state, if its minimum level allocation was higher than the amount indicated by the unadjusted formula allocation, the minimum level was assigned to that state. All such states' assigned minimum level allocations were added and these states, along with their assigned amounts, were removed from the remaining calculations.

For the remaining states whose unadjusted formula amounts were higher than their respective minimum levels, their formula amounts were added and the total was compared to the total amount of remaining funds. Because there were less funds remaining available, each remaining state's formula amount was reduced by the same proportion that the total remaining funds bore to the total remaining states' formula amounts. This reduced allocation amount for each state was again tested against its minimum comparison level and the above process was repeated until there were no remaining states being assigned their minimum level.

For the remaining states that were not assigned a minimum level, each state's reduced formula amount was then compared to a maximum amount equal to 150 percent of its relative share in PY 2004 multiplied by the PY 2005 total formula amount. For each state, if the maximum level allocation was lower than their adjusted formula allocation amount, the maximum level was assigned to that state. All such states' assigned maximum level allocations were added and these states, along with their assigned amounts, were removed from the remaining calculations.

For the remaining states, their adjusted formula amounts were added and the total was compared to the total amount of remaining funds. Because there were additional funds available for the remaining states, each remaining state's formula amount was increased by the same proportion that the total remaining funds bore to the total remaining states' formula amounts. This adjusted allocation amount for each state was again tested against its maximum comparison level and the above process was repeated until there were no remaining states being assigned their maximum level.

Each state's final allocation was either the assigned minimum or maximum level or the final proportionally adjusted formula amount.

IV. State Combinations

We anticipate a single plan of service for operating the PY 2005 NFJP in the jurisdiction comprised of Delaware and Maryland and the jurisdiction comprised of Rhode Island and Connecticut.

V. PY 2005 Allocations

The “Allocation Table” provides the allocations for the NFJP in PY 2005. NFJP grantees and other interested organizations should use these figures in preparing proposals in response to the PY 2005 Solicitation for Grant Applications (SGA) for the National Farmworker Jobs Program (NFJP).

Signed at Washington, DC, this 22nd day of April 2005.
Emily Stover DeRocco,
Assistant Secretary, Employment and Training Administration.

BILLING CODE 4510-30-P

[FR Doc. 05-8410 Filed 4-26-05; 8:45 am]

BILLING CODE 4510-30-C